DEPARTMENT OF DEFENSE

GENERAL SERVICES ADMINISTRATION

NATIONAL AERONAUTICS AND SPACE ADMINISTRATION

48 CFR Parts 4, 8, 15, 19, 22, 23, 28, 42, and 52

[FAC 2005-55; Item VII; Docket 2011-0078; Sequence 4]

Federal Acquisition Regulation; Technical Amendments

AGENCIES: Department of Defense (DoD), General Services Administration (GSA), and National Aeronautics and Space Administration (NASA).

ACTION: Final rule.

SUMMARY: This document makes amendments to the Federal Acquisition Regulation (FAR) in order to make editorial changes.

DATES: Effective Date: January 3, 2012.

FOR FURTHER INFORMATION CONTACT: The Regulatory Secretariat, 1275 First Street NE., 7th Floor, Washington, DC 20417, (202) 501-4755, for information pertaining to status or publication schedules. Please cite FAC 2005-55, Technical Amendments.

SUPPLEMENTARY INFORMATION: In order to update certain elements in 48 CFR parts 4, 8, 15, 19, 22, 23, 28, 42, and 52, this document makes editorial changes to the FAR.

List of Subjects in 48 CFR Parts 4, 8, 15, 19, 22, 23, 28, 42, and 52

Government procurement.

Dated: December 21, 2011.
Laura Auletta,
Director, Office of Governmentwide Acquisition Policy, Office of Acquisition Policy, Office of Governmentwide Policy.

Therefore, DoD, GSA, and NASA amend 48 CFR parts 4, 8, 15, 19, 22, 23, 28, 42, and 52 as set forth below:

1. The authority citation for 48 CFR parts 4, 8, 15, 19, 22, 23, 28, 42, and 52 continues to read as follows:

Authority: 40 U.S.C. 121(c); 10 U.S.C. chapter 137; and 42 U.S.C. 2473(c).

PART 4—ADMINISTRATIVE MATTERS

4.603 [Amended]

2. Amend section 4.603 by removing from paragraph (c) “http://csrc.nist.gov/publications/nistpubs/800-87/sp800-87-Final.pdf” and adding “http://www.nist.gov/publication-portal.cfm” in its place.

PART 8—REQUIRED SOURCES OF SUPPLIES AND SERVICES

8.402 [Amended]

3. Amend section 8.402 by—

a. Removing from paragraph (c)(1) “http://www.gsa.gov/fss” and adding “http://www.gsa.gov/fas” in its place; and

b. Removing from paragraph (e) “http://www.fsstraining. gsa.gov” and adding “http://www.gsa.gov/training” in its place.

8.405-5 [Amended]

4. Amend section 8.405-5 by removing from paragraph (c) “http://www.gsa.gov/fss” and adding “http://www.gsa.gov/fas” in its place.

8.703 [Amended]

5. Amend section 8.703 by removing “http://abilityone.gov/index.html” and adding “http://www.abilityone.gov.” in its place.

PART 15—CONTRACTING BY NEGOTATION

15.402 [Amended]

6. Amend section 15.402 by removing from paragraph (a)(2) “15.403-4, obtain” and adding “15.403-4, shall obtain” in its place.

7. Amend section 15.403-1 by revising paragraph (c)(1)(ii)(B) to read as follows:

15.403-1 Prohibition on obtaining certified cost or pricing data (10 U.S.C. 2306a and 41 U.S.C. 254b).

* * * * *

(c) * * *

(1) * * *

(ii) * * *

(B) The determination that the proposed price is based on adequate price competition and is reasonable has been approved at a level above the contracting officer; or

* * * * *

PART 19—SMALL BUSINESS PROGRAMS

19.102 [Amended]

8. Amend section 19.102 by removing from paragraph (f)(4) “http://www.sba.gov/gc” and adding “http://www.sba/content/class-waivers” in its place.

19.402 [Amended]

9. Amend section 19.402 by removing from paragraph (a)(2) “http://www.sba.gov/GC/pcr.html” and adding “http://www.sba.gov/content/procurement-center-representatives” in its place.

PART 22—APPLICATION OF LABOR LAWS TO GOVERNMENT ACQUISITIONS

22.404-1 [Amended]

10. Amend section 22.404-1 by removing from paragraph (a)(2) “http://www.dol.gov/esa” and adding “http://www.wdol.gov” in its place.

22.1304 [Amended]

11. Amend section 22.1304 by removing from paragraph (a) “http://www.vets100.com/login.aspx” and adding “https://webapps.dol.gov/vets100” in its place.

22.1306 [Amended]

12. Amend section 22.1306 by removing from paragraph (b) “http://vets100.vets.dol.gov” and adding “https://webapps.dol.gov/vets100” in its place.

PART 23—ENVIRONMENT, ENERGY AND WATER EFFICIENCY, RENEWABLE ENERGY TECHNOLOGIES, OCCUPATIONAL SAFETY, AND DRUG-FREE WORKPLACE

23.205 [Amended]

13. Amend section 23.205 by removing from paragraph (c)(1) “http://www.eren.doe.gov/femp/resources/legislation.html” and adding “http://www1.eere.energy.gov/femp/financing/espcs_regulations.html” in its place.

23.401 [Amended]

14. Amend section 23.401 by removing from paragraph (a)(2) “http://www.epa.gov/epaoswer/non-hw/procure/backgrnd.htm” and adding “http://www.epa.gov/epawaste/conserve/tools/cpg/index.htm” in its place.

PART 28—BONDS AND INSURANCE

28.203-3 [Amended]

15. Amend section 28.203-3 by removing from paragraph (a)(1) “http://www.usdoj.gov/enrd/2001_Title_Standards.html” and adding “http://www.justice.gov/enrd/ENRD_Assets/Title_Standards_2001.pdf” in its place.

PART 42—CONTRACT ADMINISTRATION AND AUDIT SERVICES

16. Amend section 42.203 by revising the last sentence to read as follows:

42.203 Contract administration services directory.

* * * For additional information contact—Defense Contract Management Agency, 3901 A Avenue, Building 10500, Ft. Lee, VA 23801-1809.

PART 52—SOLICITATION PROVISIONS AND CONTRACT CLAUSES

52.202-1 [Amended]

17. Amend section 52.202-1 by revising the date of the clause to read (Jan 2012)”; and by removing from paragraph (b) “http://www.acqnet.gov” and adding “http://www.acquisition.gov/far” in its place.

52.212-3 [Amended]

18. Amend section 52.212-3 by removing from Alternate II “(Apr 2011)” and adding “(Jan 2012)” in its place; and by removing from paragraph (iii) “http://www.arnet.gov/References/sdbadjustments.htm” and adding “http://www.acquisition.gov/References/sdbadjustments.htm” in its place.

52.219-22 [Amended]

19. Amend section 52.219-22 by removing from Alternate I “(Apr 2011)” and adding “(Jan 2012)” in its place; and by removing from paragraph (3) “http://www.arnet.gov/References/sdbadjustments.htm” and adding “http://www.acquisition.gov/References/sdbadjustments.htm” in its place.

52.228-11 [Amended]

20. Amend section 52.228-11 by revising the date of the clause to read (Jan 2012)”; and by removing from paragraph (b)(2)(i) “http://www.usdoj.gov/enrd/2001_Title_Standards.html” and adding “http://www.justice.gov/enrd/ENRD_Assets/Title_Standards_2001.pdf” in its place.

[FR Doc. 2011-33424 Filed 12-30-11; 8:45 am]

BILLING CODE 6820-EP-P